DEPARTMENT OF COMMERCE

National Institute of Standards and Technology

Announcement of a Public Workshop on the Establishment of a Laboratory Accreditation Program (LAP) for Laboratories Performing Interoperability, Performance, and Conformance Biometrics Testing Under the National Voluntary Laboratory Accreditation Program and Technical Requirements for Such a LAP

AGENCY: National Institute of Standards and Technology, Commerce.

ACTION: Announcement of public workshop.

SUMMARY: The National Institute of Standards and Technology (NIST) announces a public workshop to be held on July 1, 2008, in the Green Auditorium of the NIST Administration Building in Gaithersburg, MD, regarding the establishment of an accreditation program and technical requirements for laboratories that perform biometric testing including interoperability, performance, and conformance using internationally recognized standards developed by the American National Standards Institute (ANSI), NIST, and by the International Committee for Information Technology Standards (INCITS). Additional standards may be identified throughout the development of the accreditation program technical requirements.

DATES: The workshop will be held 9 a.m.-4 p.m. on July 1, 2008.

ADDRESSES: The meeting will be held at the Green Auditorium of the NIST Administration Building in Gaithersburg, MD. Please note admittance instructions under the SUPPLEMENTARY INFORMATION section of this notice.

FOR FURTHER INFORMATION CONTACT: Brad Moore, Program Manager, NIST/NVLAP, 100 Bureau Drive, Stop 2140, Gaithersburg, MD 20899-2140, Phone: (301) 975-5740 or e-mail: brad.moore@nist.gov.

Information regarding the National Voluntary Laboratory Accreditation Program (NVLAP) and the accreditation process can be obtained from http://www.nist.gov/nvlap.

SUPPLEMENTARY INFORMATION: Background: The United States Department of Homeland Security (DHS) requested that NIST establish a laboratory accreditation program for laboratories performing inoperability, performance, and conformance biometrics testing on Personal Identification Verification equipment used in Homeland Security applications. In accordance with NVLAP procedures (15 CFR Part 285), on February 29, 2008, NIST published a notice in the Federal Register requesting comments on the proposed establishment of a laboratory accreditation program for laboratories performing testing, interoperability, performance, and conformance biometrics testing under the National Voluntary Laboratory Accreditation Program (73 FR 11093). In addition to soliciting public comments through the notice, NIST will hold a public workshop to solicit further public comments on the proposed establishment of a laboratory accreditation program for biometrics testing. The public workshop will also solicit comments on the technical requirements necessary for such a laboratory accreditation program.

Biometric technologies such as facial, fingerprint, iris, and voice recognitions are used to verify the identity of individuals attempting to gain access to secure areas. The purpose of the proposed Biometrics Laboratory Accreditation Program is to evaluate testing laboratories' technical competencies against known standards and testing criteria that will ultimately be used to provide confidence in the performance of biometric sub-systems.

This notice is issued in accordance with NVLAP procedures and general requirements, found in Title 15 Part 25 of the Code of Federal Regulations.

NVLAP provides an unbiased, third-party evaluation and recognition of competence. NVLAP accreditation signifies that a laboratory has demonstrated that it operates in accordance with NVLAP management and technical requirements pertaining to quality systems, personnel, accommodation and environment, test and calibration methods, equipment, measurement traceability, sampling, handling of test and calibration items, and test and calibration reports.

NVLAP accreditation does not imply any guarantee (certification) of laboratory performance or test/calibration data. NVLAP accreditation is a finding of laboratory competence.

All visitors to the NIST site are required to pre-register to be admitted. Anyone wishing to attend this meeting must register by close of business Monday, June 16, 2008, in order to attend. Please submit your name, time of arrival, e-mail address and phone number to Tessa Beavers, Administrative Support Assistant, NIST/NVLAP, and she will provide you with instructions for admittance. Non-U.S. citizens must also submit their country of citizenship, title, employer/sponsor, and address. Ms. Beavers' e-mail address is tessa.beavers@nist.gov and her phone number is (301) 975-4017.

Dated: June 6, 2008.
Richard F. Kayser,
Chief Scientist.

[FR Doc. E8-13355 Filed 6-12-08; 8:45 am]

BILLING CODE 3510-13-P